DEPARTMENT OF COMMERCE

Foreign-Trade Zones Board

[S-50-2019]

Approval of Subzone Status; GDI Technology, Inc., Miami, Florida

On April 4, 2019, the Executive Secretary of the Foreign-Trade Zones (FTZ) Board docketed an application submitted by Miami-Dade County, grantee of FTZ 281, requesting subzone status subject to the existing activation limit of FTZ 281, on behalf of GDI Technology, Inc., in Miami, Florida.

The application was processed in accordance with the FTZ Act and Regulations, including notice in the Federal Register inviting public comment (84 FR 14087, April 9, 2019). The FTZ staff examiner reviewed the application and determined that it meets the criteria for approval. Pursuant to the authority delegated to the FTZ Board Executive Secretary (15 CFR Sec. 400.36(f)), the application to establish Subzone 281C was approved on July 3, 2019, subject to the FTZ Act and the Board's regulations, including Section 400.13, and further subject to FTZ 281's 2,000-acre activation limit.

Dated: July 8, 2019.
Andrew McGilvray,
Executive Secretary.

[FR Doc. 2019-14867 Filed 7-11-19; 8:45 am]

BILLING CODE 3510-DS-P